DEPARTMENT OF EDUCATION

[CFDA No. 84.363A]

Office of Elementary and Secondary Education, School Leadership Program; Notice Inviting Applications for New Awards for Fiscal Year (FY) 2002

Purpose of Program: The School Leadership Program is designed to assist high-need local educational agencies (LEAs) in the development, enhancement, or expansion of innovative programs to recruit, train and mentor principals (including assistant principals) to serve in high-need schools.

For FY 2002, the competition focuses on projects designed to meet the priority that appears in the “Requirements for FY 2002 Competition: Competitive Preference” section of this notice.

Eligible Applicants: High-need LEAs, consortia of high-need LEAs, or partnerships that consist of at least one high-need LEA and at least one nonprofit organization or institution of higher education. See the “Requirements for FY 2002 Competition: Eligibility” section of this notice for the definition of high-need LEA.

Applications Available: May 23, 2002.

Deadline for Transmittal of Applications: July 8, 2002.

Deadline for Intergovernmental Review: September 5, 2002.

Estimated Available Funds: $10,000,000 for the first 12 months of the 36-month project period. Funding for the second and third 12-month project periods is subject to the availability of funds and to a grantee's meeting the requirements for receipt of continuation awards contained in 34 CFR 75.253.

Estimated Range of Awards: $150,000-$750,000.

Estimated Average Size of Awards: $450,000.

Estimated Number of Awards: 22.

Note: The Department is not bound by any estimates in this notice. The Administration has not requested funding for this program for FY 2003.

Project Period: Up to 36 months.

Applicable Regulations: (a) The Education Department General Administrative Regulations (EDGAR) in 34 CFR parts 74, 75, 77, 79, 80, 81, 82, 85, 86, 97, 98, and 99. (b) The special rules announced in this notice.

Page Limit: The application narrative is where you, the applicant, address the selection criteria that reviewers use to evaluate your application. You must limit the narrative to the equivalent of no more than 50 pages, using the following standards:

• A page is 8.5″ x 11″, on one side only, with 1″ margins at the top, bottom and both sides.

• Double space (no more than three lines per vertical inch) all text in the application narrative, including titles, headings, footnotes, quotations, references and captions, as well as all text in charts, tables, figures and graphs.

• Use a font that is either 12 point or larger or no smaller than 10 pitch (characters per inch).

The page limit does not apply to Standard Form 424; the project abstract; the budget section, including the narrative budget justification; the assurances and certifications; or the resumes, bibliography, or letters of support.

Our reviewers will not read any pages of your applications that—

• Exceed the page limit if you apply these standards; or

• Exceed the equivalent of the page limit if you apply other standards.

SUPPLEMENTARY INFORMATION: Research has shown that what principals do on a daily basis makes a difference in how well students learn. Principals influence teaching and classroom practice through such activities as formulating school goals, setting and communicating high achievement expectations, organizing resources for instruction, supervising and evaluating teachers' performance, and monitoring student progress. The primary responsibility of the principal is to create an environment that will enable all students to achieve.

It is clear that strong leadership is essential for effective school reform. However, fewer and fewer eligible candidates appear willing to accept the role of school administrator. Two hundred superintendents surveyed by Education Research Service in 1998 reported difficulties filling principal vacancies in their districts. The challenge does not rest with recruiting and training future principals. Attention must also focus on providing professional development to current administrators who, according to a 1997 report by the National Center for Education Statistics, are on average 48 years old and nearly a decade past their original training.

In this regard, section 2151(b) of Title II, Part A of the Elementary and Secondary Education Act (ESEA), as amended by the No Child Left Behind Act of 2001, authorizes a new competitive grant program to assist high-need LEAs in recruiting, training and retaining principals (including assistant principals). The School Leadership program will fund applicants that effectively address the competitive priority and selection criteria while demonstrating to the satisfaction of reviewers that receipt of a grant award will enable them to do one or both of the following:

(1) Hire, train, and mentor highly qualified individuals to become principals (and assistant principals) in high-need schools.

(2) Provide current principals (and assistant principals) who serve in high-need school districts with sustained professional development that is standards-focused and job-embedded.

Waiver of Proposed Rulemaking

It is the Secretary's practice, in accordance with the Administrative Procedure Act (5 U.S.C. 553), to offer interested parties the opportunity to comment on proposed rules, including competitive preferences. Section 437(d)(1) of the General Education Provisions Act (GEPA), however, allows the Secretary to exempt from rulemaking requirements rules governing the first grant competition under a new or substantially revised program authority (20 U.S.C. 1232(d)(1)). The Secretary, in accordance with section 437(d)(1) of GEPA, has decided to forego public comment in order to ensure timely grant awards. These requirements will apply to the FY 2002 grant competition only.

Requirements for FY 2002 Competition

Selection Criteria. The Secretary uses the following criteria to evaluate an application. The maximum score for each criterion is indicated in parenthesis.

(a) Need for project. (15 points)

In determining the need for the proposed project, the Secretary considers:

(i) The magnitude of the need for recruiting and training highly qualified principals by the proposed project.

(ii) The extent to which the proposed project will prepare personnel to be highly qualified principals in which shortages have been demonstrated.

(b) Quality of project design. (25 points)

In determining the quality of project design of the proposed project, the Secretary considers:

(i) The extent to which the goals, objectives, and outcomes to be achieved by the proposed project are clearly specified and measurable.

(ii) The extent to which the design of the proposed project is appropriate to, and will successfully address the need to improve student achievement through effective school leadership.

(iii) The extent to which the proposed activities constitute a coherent, sustained program of training for principals in instructional leadership, community leadership, and systems management.

(iv) The extent to which the proposed project is designed to build capacity and yield results that will extend beyond the period of Federal financial assistance.

(c) Quality of project services. (25 points)

In determining the quality of the services to be provided by the proposed project, the Secretary considers the quality and sufficiency of strategies for ensuring equal access and treatment for eligible project participants who are members of groups that have traditionally been underrepresented based on race, color, national origin, gender, age, or disability.

In addition, the Secretary considers:

(i) The extent to which the services to be provided by the proposed project are appropriate to the needs of the principal candidates or current principals to be served or both.

(ii) The extent to which the training or professional development services to be provided by the proposed project are of sufficient quality, intensity, and duration to lead to improvements in school leadership.

(iii) The extent to which the services to be provided by the proposed project involve the collaboration of appropriate partners for maximizing the effectiveness of project services.

(iv) The extent to which the services to be provided by the proposed project are focused on high-need schools.

(d) Quality of project personnel. (10 points)

In determining the quality of project personnel, the Secretary considers the extent to which the applicant encourages applications for employment from persons who are members of groups that have traditionally been underrepresented based on race, color, national origin, gender, age, or disability.

In addition, the Secretary considers:

(i) The qualifications, including relevant training and experience, of the project director or principal investigator.

(ii) The qualifications, including relevant training and experience, of key project personnel.

(e) Adequacy of resources. (5 points) In determining the adequacy of resources for the proposed project, the Secretary considers the following:

(i) The adequacy of support, including facilities, equipment, supplies, and other resources, from the applicant organization or the lead applicant organization.

(ii) The extent to which the costs are reasonable in relation to the number of persons to be served and to the anticipated results and benefits.

(f) Quality of the management plan. (10 points)

In determining the quality of the management plan for the proposed project, the Secretary considers:

(i) The adequacy of the management plan to achieve the objectives of the proposed project on time and within budget, including clearly defined responsibilities, timelines, and milestones for accomplishing project tasks.

(ii) The adequacy of procedures for ensuring feedback and continuous improvement in the operation of the proposed project.

(iii) The extent to which the time commitments of the project director and principal investigator and other key project personnel are appropriate and adequate to meet the objectives of the proposed project.

(g) Quality of the project evaluation. (10 points) In determining the quality of the evaluation, the Secretary considers:

(i) The extent to which the methods of evaluation are thorough, feasible, and appropriate to the goals, objectives, and outcomes of the proposed project.

(ii) The extent to which the methods of evaluation include the use of objective performance measures that are clearly related to the intended outcomes of the project and will produce quantitative and qualitative data to the extent possible.

(iii) The extent to which the evaluation will provide guidance about effective strategies suitable for replication or testing in other settings.

Competitive Preference. Under 34 CFR 75.105(c)(2)(i) we award up to an additional 10 points to an application, depending on how well the application meets this competitive preference. The priority points are in addition to any points an application earns under the selection criteria for the program.

To promote sustained gains in student achievement, principals today need to be strong leaders and managers. Principals must effectively serve as leaders of the instructional school staff; leaders of the school, family, and business communities; and managers of the human, financial, and material resources of the school. In addition, the very purpose of this program is to help those schools and LEAs most in need of improved school leadership.

Therefore, a competitive preference is awarded to applications whose projects would both—

(1) Provide comprehensive and sustained training or professional development to current or prospective principals or assistant principals in each of the following three key areas: Instructional leadership, community leadership, and systems management; and,

(2) Support a district-wide effort to improve the academic achievement of students attending schools that are most in need of strong school leaders. For purposes of this program, schools most in need of strong leaders are “high-need schools” as defined in section 2312(3) of the ESEA, i.e., a school that—

(A) Is either located in an area in which the percentage of students from families with incomes below the poverty line is 30 percent or more; or

(B)(i) Is located in an area with a high percentage of out-of-field teachers, as defined in section 2102 of the ESEA;

(ii) Is within the top quartile of elementary schools and secondary schools statewide, as ranked by the number of unfilled, available teacher positions at the school;

(iii) Is located in an area in which there is a high teacher turnover rate; or

(iv) Is located in an area in which there is a high percentage of teachers who are not certified or licensed. Eligibility. An eligible application must propose a project directly benefits one or more named “high-need LEA(s)”. If the applicant is not the LEA(s), the application must contain a letter of support from the LEA(s). As this term is defined in section 2102 (3) of the ESEA, a high-need LEA is an LEA—

1. (a) That serves not fewer than 10,000 children from families with incomes below the poverty line, or (b) for which not less than 20 percent of the children in the area served by the LEA are from families with incomes below the poverty line; and

2. For which there is (a) a high percentage of teachers not teaching in the academic subjects or grade levels the teachers were trained to teach, or (b) a high percentage of teachers with emergency, provisional, or temporary certification or licensing.

Applicants will need to include information in their applications that demonstrates that they, or the LEA(s) with which they will work, meet this definition.

Note: For purposes of the four elements of this statutory definition of “high-need LEA”:

1.a. The total number of children in poverty, as referenced above, can be found on the Census Bureau Web site at: http://www.census.gov/housing/saipe/sd97/. This site reports the number of children in poverty for every school district in the United States. See the file for your State's data, and find your LEA. The sixth column provides the number of children in poverty.

1.b. LEA poverty rates referenced in 1(b) can be accessed on the Department's Web site at the following address: www.ed.gov/offices/OESE/reap.html. See at this address “Instructions and Tools for Submitting Data,” and find “Its Own State Spreadsheet.” Column 11 identifies the percentage of an LEA's children from families below the poverty line. These poverty rates are available for LEAs that are included in the National Center for Education Statistics (NCES) Common Core of Data (CCD).

An LEA not included in the CCD must provide other data, such as the adjusted poverty data that its State used to make its Title I allocations, to demonstrate its eligibility.

2.a. The Department does not have available to it suitable data with which to define a “high percentage” of teachers not teaching in the academic subjects or grade levels the teachers were trained to teach. Therefore, to be eligible to receive an award, LEAs unable to meet the definition immediately below for “high percentage of teachers with emergency, provisional, or temporary certification or licensing” will need to demonstrate to the Department's satisfaction that they have a high percentage of teachers not teaching in the academic subjects or grade levels the teachers were trained to teach. The Department will review this aspect of the applications on a case-by-case basis.

2.b. The best data available to the Department on the percentage of teachers with emergency, provisional, or temporary certification or licensing comes from the reports on the quality of teacher preparation that States provided to the Department in October 2001 under section 207 of the Higher Education Act. Specifically, States provided the percentage of teachers in their LEAs teaching on waivers, both on a statewide basis and in high-poverty LEAs. Based on data from these reports, the national average of teachers on waivers in high-poverty LEAs is approximately 11 percent. The Secretary has determined that it is reasonable to use a percentage that meets or exceeds 11 percent in defining high-need LEA in Title II of the ESEA (under which this program is authorized) to reflect a “high percentage” of teachers teaching with emergency, provisional, or temporary certification or licensing.

Services for Private School Principals and Assistant Principals

The uniform provisions in Title IX, Part E of the ESEA apply to this program. Among other things, this means that an LEA receiving financial assistance under the School Leadership Program must, after timely and meaningful consultation with private school officials, provide to private school staff professional development that is equitable to professional development provided with program funds to public school principals and assistant principals (or other public school staff whom the project serves). See section 9501 of the ESEA.

Limitation on Indirect Cost

The success of the School Leadership Program will depend upon how well grantees produce highly qualified principals and assistant principals who will work and stay in high-need schools. If the program is to achieve its purposes, we need to ensure that the $10 million appropriation is used as effectively as possible. To do so, it is necessary to place a reasonable limitation on the amount of program funds that grant recipients may use to reimburse themselves for the “indirect costs” of program activities. Therefore, the Secretary has decided to establish a reasonable limit of eight percent on the indirect cost rate that all program recipients may charge to funds provided under this program.

The School Leadership Program does not fund activities that are strictly “educational training projects” within the meaning of section 75.562 of EDGAR, to which this eight-percent limitation already expressly applies. However, for reasons we have provided in a limited number of other competitive grant programs that focus on improving teacher quality or helping students in high-need schools achieve academically, we believe that a similar limitation on a recipient's indirect costs is necessary here to ensure that program funds are used to secure the school leaders that Congress had intended. See, e.g., (1) the analysis of EDGAR for proposed 34 CFR 611.61 that governs the Teacher Quality Enhancement Grant programs, authorized by Title II, Part A of the Higher Education Act (65 FR 6936, 6940 (February 11, 2000)); and (2) requirements for the FY 2001 grants competition under the Transition to Teaching program authorized in the FY 2001 Department of Education Appropriations Act, Pub. L. 106-554 (66 FR 19673, 19676-77(April 16, 2002)).

For Applications Contact: Education Publications Center (ED Pubs), PO Box 1398, Jessup, MD 20794-1398. Telephone (toll free): 1-877-433-7827. FAX: (301) 470-1244. If you use a telecommunications device for the deaf (TDD) you may call (toll free): 1-877-576-7734.

You may also contact ED Pubs at its Web site: http://www.ed.gov/about/ordering.jsp.

Or you may contact ED Pubs at its e-mail address: edpubs@inet.ed.gov.

If you request an application from ED Pubs, be sure to identify this competition as follows: CFDA number 84.363A.

For Technical Assistance Contact: Susan Toy, U.S. Department of Education, 400 Maryland Avenue, SW, Room 3E224, Washington, DC 20202-6140. Telephone: (202) 260-0995 or via Internet: Susan.Toy@ed.gov.

Electronic Access to This Document

You may view this document, as well as all other Department of Education documents published in the Federal Register, in text or Adobe Portable Document Format (PDF) on the Internet at the following site: http://www.ed.gov/legislation/FedRegister/.

To use PDF you must have Adobe Acrobat Reader, which is available free at this site. If you have questions about using PDF, call the U.S. Government Printing Office (GPO), toll free, at 1-888-293-6498; or in the Washington, DC area at (202) 512-1530.

Individuals with disabilities may obtain this document in an alternative format (e.g., Braille, large print, audiotape, or computer diskette) on request using the contact information provided under For Applications Contact.

Note: The official version of this document is the document published in the Federal Register. Free Internet access to the official edition of the Federal Register and the Code of Federal Regulations is available on GPO access at: http://www.access.gpo.gov/nara/index.html.

Program Authority: 20 U.S.C 6651(b).

Dated: May 17, 2002.
Susan B. Neuman,
Assistant Secretary for Elementary and Secondary Education.

[FR Doc. 02-13022 Filed 5-22-02; 8:45 am]

BILLING CODE 4000-01-P